FEDERAL COMMUNICATIONS COMMISSION

[OMB 3060-0506 and OMB 3060-0938; FR ID 90817]

Information Collections Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before August 12, 2022. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-0506.

Title: FCC Form 2100, Schedule 302-FM—FM Station License Application.

Form Number: FCC Form 2100, Schedule 302-FM.

Type of Review: Revision of a currently approved collection.

Respondents: Business or other for-profit entities; Not-for-profit institutions.

Number of Respondents and Responses: 925 respondents; 925 responses.

Estimated Time per Response: 1-2 hours.

Frequency of Response: On occasion reporting requirement.

Total Annual Burden: 3,135 hours.

Total Annual Costs: $801,500.

Obligation to Respond: Required to obtain or retain benefits. The statutory authority for this collection of information is contained in Sections 154(i), 303 and 308 of the Communications Act of 1934, as amended.

Needs and Uses: The Commission adopted the FM Broadcast Directional Antenna Performance Verification Order, FCC 22-38, adopted May 19, 2022, and released on May 19, 2022, where the Commission revised its broadcast radio rules and procedures to allow for FM antenna directional pattern verification by computer modeling. This represents an update from the previous requirement that an FM or LPFM directional antenna's performance be verified by the “measured relative field pattern” and brings our rules for those services into regulatory conformity with our rules governing AM and DTV directional antennas. The Commission expects that this change in how the antenna manufacturer may validate its FM directional antenna studies would provide an FM license applicant with greater flexibility in antenna siting and reduce the overall costs of designing and building an FM directional antenna, and station construction.

Specifically, pertaining to this Information Collection and full-service FM stations, the Commission is revising the relevant rules, 47 CFR 73.316 and 47 CFR 73.1690, and corresponding instructions, as follows:

Gives an FM license applicant that employs a directional antenna the option of submitting computer-generated proofs of the FM directional antenna pattern prepared by the antenna's manufacturer, in lieu of measured pattern plots and tabulations derived from physical full-size or scale model antenna mockups.

In Section 73.316, specifies the information required in a license application filed for a station using an FM directional antenna, which opts to use computer modeling pattern verification. For example, the license application must include a statement from the engineer responsible for designing the antenna, performing the modeling, and preparing the antenna manufacturer's instructions for installation of the antenna, that identifies and describes the software used to create the computer model, the software tool(s) used in the modeling and the procedures applied in using the software. The statement should describe all radiating structures included in the model. It must also include a certification that the software executed normally without generating error messages or warnings.

Requires that, the first time the directional pattern of a particular model of antenna is verified using computer results, the broadcast station must submit to the Commission both the results of the computer modelling and the measurements of either a full-size or scale model of the antenna or elements thereof, demonstrating a reasonable correlation between the measurements achieved and the computer model results. Once a particular antenna model or series of elements has been verified, subsequent applicants using the same antenna model number or elements and the same modeling software may cross-reference the original submission by providing the application file number.

The revisions to the relevant rules and corresponding Schedule 302-FM instructions listed above may potentially affect the substance, burden hours, and costs of completing the Schedule 302-FM. Therefore, this submission is being made to OMB for approval of the revised Information Collection requirements.

OMB Control Number: 3060-0938.

Title: Form 2100, Schedule 319—Low Power FM Station License Application.

Form Number: FCC Form 2100, Schedule 319.

Type of Review: Revision of a currently approved collection.

Respondents: Not-for-profit institutions, State, local or Tribal Government.

Number of Respondents and Responses: 200 respondents and 200 responses.

Estimated Time per Response: 1 hour.

Frequency of Response: On occasion reporting requirement.

Total Annual Burden: 200 hours.

Total Annual Cost: $27,500.

Obligation to Respond: Required to obtain or retain benefits. The statutory authority for this collection of information is contained in Sections 154(i), 303 and 308 of the Communications Act of 1934, as amended.

Needs and Uses: The Commission adopted the FM Broadcast Directional Antenna Performance Verification Order, FCC 22-38, adopted May 19, 2022, and released on May 19, 2022, where the Commission revised its broadcast radio rules and procedures to allow for LPFM antenna directional pattern verification by computer modeling. This represents an update from the previous requirement that an FM or LPFM directional antenna's performance be verified by the “measured relative field pattern” and brings our rules for those services into regulatory conformity with our rules governing AM and DTV directional antennas. The Commission expects that this change in how the antenna manufacturer may validate its LPFM directional antenna studies would provide an LPFM license applicant with greater flexibility in antenna siting and reduce the overall costs of designing and building an LPFM directional antenna, and station construction.

Specifically, pertaining to this Information Collection and LPFM stations, the Commission is revising the relevant rules, 47 CFR 73.316 and 47 CFR 73.1690, and corresponding instructions, as follows:

Gives an LPFM license applicant that employs a directional antenna the option of submitting computer-generated proofs of the LPFM directional antenna pattern prepared by the antenna's manufacturer, in lieu of measured pattern plots and tabulations derived from physical full-size or scale model antenna mockups.

In Section 73.316, specifies the information required in a license application filed for a station using an LPFM directional antenna, which opts to use computer modeling pattern verification. For example, the license application must include a statement from the engineer responsible for designing the antenna, performing the modeling, and preparing the antenna manufacturer's instructions for installation of the antenna, that identifies and describes the software used to create the computer model, the software tool(s) used in the modeling and the procedures applied in using the software. The statement should describe all radiating structures included in the model. It must also include a certification that the software executed normally without generating error messages or warnings.

Requires that, the first time the directional pattern of a particular model of antenna is verified using computer results, the broadcast station must submit to the Commission both the results of the computer modelling and the measurements of either a full-size or scale model of the antenna or elements thereof, demonstrating a reasonable correlation between the measurements achieved and the computer model results. Once a particular antenna model or series of elements has been verified, subsequent applicants using the same antenna model number or elements and the same modeling software may cross-reference the original submission by providing the application file number.

The revisions to the relevant rules and corresponding Form 2100, Schedule 319 (LPFM License Application) instructions listed above may potentially affect the substance, hours, and costs of completing the Schedule 319 (LPFM License Application). Therefore, this submission is being made to OMB for approval of the revised Information Collection requirements.

Federal Communications Commission.
Marlene Dortch,
Secretary.

[FR Doc. 2022-12714 Filed 6-10-22; 8:45 am]

BILLING CODE 6712-01-P